DEPARTMENT OF COMMERCE

International Trade Administration

[A-533-824, A-583-837]

Continuation of Antidumping Duty Orders on Polyethylene Terephthalate Film, Sheet and Strip from India and Taiwan

AGENCY: Import Administration, International Trade Administration, Department of> Commerce.

SUMMARY: As a result of the determinations by the Department of Commerce (the Department) and the International Trade Commission (ITC) that revocation of the antidumping duty orders on polyethylene terephthalate film, sheet, and strip (PET film) from India and Taiwan would likely lead to a continuation or recurrence of dumping and material injury to an industry in the United States, the Department is publishing a notice of continuation for these antidumping duty orders.

EFFECTIVE DATE: May 8, 2008.

CONTACT INFORMATION: Jacqueline Arrowsmith or Martha Douthit, AD/CVD Operations, Office 6, Import Administration, International Trade, U.S. Department of Commerce, 14th Street and Constitution Avenue, NW, Washington DC 20230; telephone: (202) 482-5255 or (202) 482-5050, respectively.

SUPPLEMENTARY INFORMATION:

Background

The Department initiated and the ITC instituted sunset reviews of the antidumping duty orders on PET film from India and Taiwan, pursuant to Section 751(c) of the Tariff Act of 1930, as amended (the Act). See Initiation of Five-year (“Sunset”) Reviews, 72 FR 30544 (June 1, 2007) (Notice of Initiation).

As a result of its reviews, the Department found that revocation of the antidumping duty orders would likely lead to a continuation or recurrence of dumping, and therefore notified the ITC of the magnitude of the margins likely to prevail were the orders to be revoked. See Polyethylene Terephthalate Film, Sheet, and Strip from India and Taiwan: Final Results of the Expedited Sunset Reviews of the Antidumping Duty Orders, 72 FR 57297 (October 9, 2007).

On April 10, 2008, the ITC determined, pursuant to section 751(c) of the Act, that revocation of the antidumping duty orders on PET film from India and Taiwan would likely lead to a continuation or recurrence of material injury to an industry in the United States within a reasonably foreseeable time. See Polyethylene Terephthalate (PET) Film, Sheet, and Strip from India and Taiwan (Inv. Nos. 701-TA-415 and 731-TA-933-934, USITC Publication 3994 (Review) (April 2008)).

Scope of the Orders

The products covered by these orders are all gauges of raw, pretreated or primed PET film, whether extruded or coextruded. Excluded are metallized films and other finished films that have had at least one of their surfaces modified by the application of a performance-enhancing resinous or inorganic layer of more than 0.00001 inches thick. Imports of PET film are currently classifiable in the Harmonized Tariff Schedule of the United States (“HTSUS”) under item number 3920.62.00.90. Although the HTSUS subheadings are provided for the convenience and customs purposes, the written description of the scope of these orders is dispositive. Since these orders were published, there was one scope determination for PET film from India, dated August 25, 2003. In this determination, requested by International Packaging Films Inc., the Department determined that tracing and drafting film is outside of the scope of the order on PET film from India. See Notice of Scope Rulings, 70 FR 24533 (May 10, 2005).

Continuation of the Orders

As a result of these determinations by the Department and the ITC that revocation of these antidumping duty orders would likely lead to a continuation or recurrence of dumping and material injury to an industry in the United States, pursuant to section 751(d)(2) of the Act, the Department hereby orders the continuation of the antidumping duty orders on PET film from India and Taiwan. U.S. Customs and Border Protection will continue to collect antidumping duty cash deposits at the rates in effect at the time of entry for all imports of subject merchandise.

The effective date of the continuation of these orders will be the date of publication in the Federal Register of this notice of continuation. Pursuant to section 751(c)(2) of the Act, the Department intends to initiate the next five-year review of these orders not later than 30 days prior to the fifth anniversary of the effective date of continuation.

This five-year (sunset) review and this notice are in accordance with section 751(c) of the Act and published pursuant to section 777(i)(1) of the Act.

Dated: May 2, 2008.
David M. Spooner,
Assistant Secretary for Import Administration.

[FR Doc. E8-10266 Filed 5-7-08; 8:45 am]

BILLING CODE 3510-DS-S